DEPARTMENT OF HEALTH AND HUMAN SERVICES

Office of the Secretary

[Document Identifier: HHS-OS-0990-new-30D]

Agency Information Collection Activities; Proposed Collection; Public Comment Request

AGENCY: Office of Adolescent Health, Office of the Assistant Secretary for Health, Department of Health and Human Services (HHS).

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before May 30, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-new-30D for reference.

Information Collection Request Title: Pregnancy Assistance Fund Feasibility and Design Study (FADS).

Abstract: The Office of Adolescent Health (OAH), U.S. Department of Health and Human Services (HHS) is requesting approval by OMB on a new collection. The Pregnancy Assistance Fund (PAF) evaluation will provide information about program design, implementation, and impacts through two core components: A rigorous assessment of program impacts and implementation, and a descriptive examination of program design. This proposed information collection activity includes (a) program design and early implementation data collected through telephone interviews with PAF grantees and (b) baseline data in up to three impact sites through self-administered questionnaires.

Need and Proposed Use of the Information: Design and implementation data will build on knowledge about the grantees and their program plans gathered from other sources as well as identify sites for the impact study. Baseline survey data will be used to confirm the integrity of the random assignment process, define subgroups for which impacts will be estimated, adjust impact estimates to account for survey non-response, and to improve the precision of impact estimates.

Likely Respondents: The 17 PAF grantee administrators and expectant or parenting young women in 2-3 grantee sites.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information.

The total annual burden hours estimated for this ICR are summarized in the table below.

Total Estimated Annualized Burden—Hours
Form name | Number of respondents | Number of responses per respondent | Average burden per response (in hours) | Total burden hours
Telephone Interview Protocol | 6 | 1 | 2 | 12
Baseline Survey | 950 | 1 | .5 | 475
Total |  |  |  | 487

Darius Taylor,
Information Collection Clearance Officer.

[FR Doc. 2014-09785 Filed 4-29-14; 8:45 am]

BILLING CODE 4150-30-P